FEDERAL COMMUNICATIONS COMMISSION

Public Safety and Homeland Security Bureau; Federal Advisory Committee Act; Emergency Response Interoperability Center Public Safety Advisory Committee Meeting

AGENCY: Federal Communications Commission.

ACTION: Notice of public meeting.

SUMMARY: In accordance with the Federal Advisory Committee Act, this document advises interested persons that the FCC Emergency Response Interoperability Center Public Safety Advisory Committee (PSAC) will hold its first meeting on March 15, 2011, at 10 a.m. in the Commission Meeting Room of the Federal Communications Commission.

DATES: March 15, 2011.

ADDRESSES: Federal Communications Commission, Room TW-C305 (Commission Meeting Room), 445 12th Street, SW., Washington, DC 20554.

FOR FURTHER INFORMATION CONTACT: Gene Fullano, Designated Federal Official for PSAC at (202) 418-0492 (voice) or genaro.fullano@fcc.gov (e-mail); or Brian Hurley, Deputy Designated Federal Official for PSAC at (202) 418-2220 (voice) or brian.hurley@fcc.gov (e-mail).

SUPPLEMENTARY INFORMATION: The PSAC is a Federal Advisory Committee that will provide recommendations to assist the Commission and the Emergency Response Interoperability Center (ERIC) in implementing the following policy objectives: (1) The adoption of technical and operational requirements and procedures to ensure a nationwide level of interoperability for the public safety broadband network; (2) the adoption and implementation of requirements and procedures to address operability, roaming, priority access, gateway functions and interfaces, the interconnectivity of public safety broadband networks, and other matters related to the functioning of the nationwide public safety broadband network; (3) the adoption of authentication and encryption requirements for common public safety broadband applications and network use; (4) the coordination of ERIC's policies with other entities, including other Federal agencies; and (5) such other policies for which ERIC may have responsibilities from time to time. On August 6, 2010, the FCC, pursuant to the Federal Advisory Committee Act, filed the charter for the PSAC for a period of two years through August 6, 2012.

Matters to be considered at this meeting include the duties set forth in the PSAC charter, the process for completing its tasks, and committee structure. Topics likely to be covered at this meeting include: the interoperability of 700 MHz public safety broadband networks with other public safety networks, including both narrowband networks and broadband networks; user applications; security and authentication features; and network evolution. A more detailed agenda will be released prior to the meeting.

Members of the general public may attend the meeting, and the FCC will attempt to accommodate as many attendees as possible; however, admittance will be limited to seating availability. The Commission will also provide audio and/or video coverage of the meeting over the Internet from the FCC's Web page at http://www.fcc.gov/live.

Open captioning will be provided for this event. Other reasonable accommodations for people with disabilities are available upon request. Requests for such accommodations should be submitted via e-mail to fcc504@fcc.gov or by calling the Consumer & Governmental Affairs Bureau at (202) 418-0530 (voice), (202) 418-0432 (TTY). Such requests should include a detailed description of the accommodation needed. In addition, please include a way the FCC can contact the requester if more information is needed to fill the request. Please allow at least five days' advance notice; last minute requests will be accepted, but may not be possible to accommodate.

The public may submit written comments before the meeting to Gene Fullano, the FCC's Designated Federal Official for the PSAC, by e-mail to genaro.fullano@fcc.gov or U.S. Postal Service Mail to Gene Fullano, Associate Chief, Public Safety and Homeland Security Bureau, Federal Communications Commission, 445 12th Street, SW., Room 7-C738, Washington, DC 20554.

Federal Communications Commission.
Jennifer A. Manner,
Deputy Chief, Public Safety and Homeland Security Bureau.

[FR Doc. 2011-4398 Filed 2-25-11; 8:45 am]

BILLING CODE 6712-01-P